DEPARTMENT OF AGRICULTURE

Food and Nutrition Service

Agency Information Collection Activities: Proposed Collection; Comment Request—Child Nutrition Labeling Program

AGENCY: Food and Nutrition Service, USDA.

ACTION: Notice.

SUMMARY: In accordance with the Paperwork Reduction Act of 1995, this notice invites the general public and other public agencies to comment on the proposed information collection. The proposed collection is a revision of a currently approved collection.

The purpose of the Child Nutrition Labeling Program is to aid schools and institutions participating in Child Nutrition Programs in determining the contribution a commercial product makes toward the food-based meal pattern requirements of these programs.

DATES: Comments on this notice must be received by June 9, 2008 to be assured of consideration.

ADDRESSES: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology. Comments may be sent to: Tim Vazquez, Acting Team Leader, Technical Assistance Section, Nutrition Promotion and Training Branch, Child Nutrition Division, Room 632, Food and Nutrition Service, United States Department of Agriculture, 3101 Park Center Drive, Alexandria, VA 22302.

All responses to this notice will be summarized and included in the request for OMB approval. All comments will also be a matter of public record.

FOR FURTHER INFORMATION CONTACT: Requests for additional information or copies of the information collection instrument and instructions should be directed to Tim Vazquez at (703) 305-2609.

SUPPLEMENTARY INFORMATION: Title: Child Nutrition Labeling Program.

OMB Number: 0584-0320.

Expiration Date: July 31, 2008.

Type of Request: Revision of currently approved collection.

Abstract: The Child Nutrition (CN) Labeling Program is a voluntary technical assistance program to aid schools and institutions participating in the National School Lunch Program (NSLP), School Breakfast Program (SBP), Child and Adult Care Food Program (CACFP), and Summer Food Service Program (SFSP) in determining the contribution a commercial product makes toward the food-based meal pattern requirements of these programs. (See Appendix C to 7 CFR Parts 210, 220, 225 and 226 for more information on this program). There is no Federal requirement that commercial products must have a CN label statement.

To participate in the Child Nutrition Labeling Program, a manufacturer submits product labels and formulations to the Food and Nutrition Service (FNS) that are in conformance with the Food Safety and Inspection Service (FSIS) label approval program for meat and poultry, or United States Department of Commerce (USDC) label approval program for seafood products. FNS reviews a manufacturer's product formulation to determine the contribution a serving of the product makes toward the food-based meal pattern requirements. The application form submitted to FNS is the same application form that companies submit to FSIS or USDC to receive label approval. A CN label application is also reviewed by FNS for accuracy. Participation in the CN Labeling Program is voluntary: only manufacturers who wish to place CN labels on their products must comply with CN Labeling Program requirements.

Affected Public: Businesses.

Type of Respondents: Manufacturers of food produced for school food service. The annual reporting burden:

Estimated Number of Respondents: 269;

Estimated Number of Responses per Respondent: 7.8;

Estimated Total Annual Responses: 2,098;

Estimated Time per Response: 0.75;

Estimated Total Annual Burden: 1,574.

Estimate of Burden
Summary of burden for this collection | Number of respondents | Est. annual responses per respondent | Est. total annual responses | Est. hours per response | Est. total annual burden for this ICR
| 269 | 7.8 | 2098.2 | 0.75 | 1573.65

Dated: March 25, 2008.
Roberto Salazar,
Administrator, Food and Nutrition Service.

[FR Doc. E8-7239 Filed 4-7-08; 8:45 am]

BILLING CODE 3410-30-P